Title 3—

The President

Notice of May 27, 2002

Continuation of Emergency With Respect to the Federal Republic of Yugoslavia (Serbia and Montenegro)

In accordance with section 202(d) of the National Emergencies Act (50 U.S.C. 1622(d)), I am continuing for 1 year the national emergency declared on May 30, 1992, with respect to the Federal Republic of Yugoslavia (Serbia and Montenegro) (the “FRY (S&M)”), as expanded on October 25, 1994, in response to the actions and policies of the Bosnian Serbs. In addition, I am continuing for 1 year the national emergency declared on June 9, 1998, with respect to the FRY (S&M)'s policies and actions in Kosovo. This notice shall be published in the Federal Register and transmitted to the Congress.

On May 30, 1992, by Executive Order 12808, President Bush declared a national emergency to deal with the unusual and extraordinary threat to the national security, foreign policy, and economy of the United States constituted by the actions and policies of the Governments of Serbia and Montenegro. Under this emergency, President Bush first blocked all property and interests in property of the Governments of the FRY (S&M), Serbia, and Montenegro and subsequently prohibited trade and other transactions with the FRY (S&M).

On October 25, 1994, President Clinton expanded the scope of the national emergency by issuing Executive Order 12934 to address the unusual and extraordinary threat to the national security, foreign policy, and economy of the United States posed by the actions and policies of the Bosnian Serb forces and the authorities in the territory that they controlled within Bosnia and Herzegovina.

On December 27, 1995, President Clinton issued Presidential Determination 96-7, directing the Secretary of the Treasury, inter alia, to suspend the application of sanctions imposed on the FRY (S&M) pursuant to the above-referenced Executive Orders and to continue to block property previously blocked until provision is made to address claims or encumbrances, including the claims of the other successor states of the former Yugoslavia. This sanctions relief, in conformity with United Nations Security Council Resolution 1022 of November 22, 1995, was an essential factor motivating the FRY (S&M)'s acceptance of a peace agreement initialed by the parties in Dayton on November 21, 1995, and signed in Paris on December 14, 1995 (hereinafter the “Peace Agreement”). Sanctions against both the FRY (S&M) and the Bosnian Serb forces were terminated in conjunction with United Nations Security Council Resolution 1074 of October 1, 1996. This termination, however, did not end a requirement that those blocked funds and assets that are subject to claims or encumbrances remain blocked, until unblocked in accordance with applicable law.

Until the status of all remaining blocked property is resolved, the Peace Agreement implemented, and the terms of the United Nations Security Council Resolution 1022 met, the national emergency declared on May 30, 1992, and the measures adopted pursuant thereto to deal with that emergency, must continue beyond May 30, 2002.

On June 9, 1998, by Executive Order 13088, President Clinton found that the actions and policies of the FRY (S&M) and the Republic of Serbia with respect to Kosovo, constituted an unusual and extraordinary threat to the national security and foreign policy of the United States. President Clinton therefore declared a national emergency to deal with that threat.

On January 17, 2001, President Clinton issued Executive Order 13192 amending Executive Order 13088 to lift and modify, with respect to future transactions, most of the economic sanctions imposed against the FRY (S&M). At the same time, Executive Order 13192 imposes restrictions on transactions with certain persons described in section 1(a) of the order, namely persons under open indictment for war crimes by the International Criminal Tribunal for the Former Yugoslavia (ICTY). It also provides for the continued blocking of property or interests in property blocked prior to the order's effective date due to the need to address claims or encumbrances involving such property.

Because the crisis with respect to the situation in Kosovo and with respect to Slobodan Milosevic, his close associates and supporters and persons under open indictment for war crimes by the ICTY has not been resolved, and because the status of all previously blocked property has yet to be resolved, I have determined that the national emergency declared on June 9, 1998, and the measures adopted pursuant thereto to deal with that emergency, must continue beyond June 9, 2002.

B

THE WHITE HOUSE,

May 27, 2002.

[FR Doc. 02-13681

Filed 5-28-02; 11:44 am]

Billing code 3195-01-P